DEPARTMENT OF ENERGY

Federal Energy Regulatory Commission

Combined Notice of Filings #1

Take notice that the Commission received the following exempt wholesale generator filings:

Docket Numbers: EG25-277-000.

Applicants: Cross Trails Energy Storage Project, LLC.

Description: Cross Trails Energy Storage Project, LLC submits Notice of Self-Certification of Exempt Wholesale Generator Status.

Filed Date: 4/7/25.

Accession Number: 20250407-5070.

Comment Date: 5 p.m. ET 4/28/25.

Take notice that the Commission received the following electric rate filings:

Docket Numbers: ER25-1056-001.

Applicants: Hornshadow Solar, LLC.

Description: Tariff Amendment: Response to Deficiency Letter to be effective 3/2/2025.

Filed Date: 4/7/25.

Accession Number: 20250407-5192.

Comment Date: 5 p.m. ET 4/28/25.

Docket Numbers: ER25-1410-000.

Applicants: Route 66 Energy Storage, LLC.

Description: Supplement to 02/25/2025, Route 66 Energy Storage, LLC tariff filing.

Filed Date: 4/4/25.

Accession Number: 20250404-5238.

Comment Date: 5 p.m. ET 4/14/25.

Docket Numbers: ER25-1479-000.

Applicants: Escape Solar LLC.

Description: Supplement to 03/03/2025, Escape Solar LLC tariff filing.

Filed Date: 4/2/25.

Accession Number: 20250402-5242.

Comment Date: 5 p.m. ET 4/14/25.

Docket Numbers: ER25-1864-002.

Applicants: Public Service Company of New Mexico.

Description: Tariff Amendment: Amendment to OBE to be effective 3/8/2025.

Filed Date: 4/4/25.

Accession Number: 20250404-5190.

Comment Date: 5 p.m. ET 4/25/25.

Docket Numbers: ER25-1886-000.

Applicants: Midcontinent Independent System Operator, Inc.

Description: § 205(d) Rate Filing: 2025-04-04_Demand Response and Emergency Resources Reforms to be effective 9/1/2027.

Filed Date: 4/4/25.

Accession Number: 20250404-5209.

Comment Date: 5 p.m. ET 5/5/25.

Docket Numbers: ER25-1887-000.

Applicants: Pacific Gas and Electric Company.

Description: Pacific Gas and Electric Company submits Compliance Filing with Order No. 904.

Filed Date: 3/28/25.

Accession Number: 20250328-5464.

Comment Date: 5 p.m. ET 4/18/25.

Docket Numbers: ER25-1888-000.

Applicants: Southern California Edison Company.

Description: Southern California Edison Company submits Compliance Filing with Order No. 904.

Filed Date: 3/28/25.

Accession Number: 20250328-5465.

Comment Date: 5 p.m. ET 4/18/25.

Docket Numbers: ER25-1889-000.

Applicants: San Diego Gas & Electric Company.

Description: San Diego Gas & Electric Company submits Compliance Filing with Order No. 904.

Filed Date: 3/31/25.

Accession Number: 20250331-5580.

Comment Date: 5 p.m. ET 4/21/25.

Docket Numbers: ER25-1890-000.

Applicants: PJM Interconnection, L.L.C.

Description: § 205(d) Rate Filing: Original ISA and CSA, Service Agreement Nos. 7614 and 7615; Queue No. AE2-289 to be effective 12/31/9998.

Filed Date: 4/7/25.

Accession Number: 20250407-5043.

Comment Date: 5 p.m. ET 4/28/25.

Docket Numbers: ER25-1891-000.

Applicants: VIOTAS Texas LLC.

Description: § 205(d) Rate Filing: Initial Application to be effective 4/10/2025.

Filed Date: 4/7/25.

Accession Number: 20250407-5066.

Comment Date: 5 p.m. ET 4/28/25.

Docket Numbers: ER25-1892-000.

Applicants: Midcontinent Independent System Operator, Inc., Union Electric Company.

Description: § 205(d) Rate Filing: Union Electric Company submits tariff filing per 35.13(a)(2)(iii: 2025-04-07_SA 2012 Ameren MO (UEC)-City of California, MO 2nd Rev WDS to be effective 5/1/2025.

Filed Date: 4/7/25.

Accession Number: 20250407-5077.

Comment Date: 5 p.m. ET 4/28/25.

Docket Numbers: ER25-1893-000.

Applicants: PJM Interconnection, L.L.C.

Description: § 205(d) Rate Filing: Original NSA Service Agreement No. 7643; Queue Position No. AC1-086 to be effective 6/7/2025.

Filed Date: 4/7/25.

Accession Number: 20250407-5081.

Comment Date: 5 p.m. ET 4/28/25.

Docket Numbers: ER25-1894-000.

Applicants: Arizona Public Service Company.

Description: § 205(d) Rate Filing: Service Agreement No. 432, BA Services Agreement w. Harquahala Sun 1, LLC to be effective 4/1/2025.

Filed Date: 4/7/25.

Accession Number: 20250407-5139.

Comment Date: 5 p.m. ET 4/28/25.

Docket Numbers: ER25-1895-000.

Applicants: Alabama Power Company, Georgia Power Company, Mississippi Power Company.

Description: Tariff Amendment: Alabama Power Company submits tariff filing per 35.15: EDF Renewables Development (Lightyear Solar) LGIA Termination Filing to be effective 4/7/2025.

Filed Date: 4/7/25.

Accession Number: 20250407-5145.

Comment Date: 5 p.m. ET 4/28/25.

Docket Numbers: ER25-1896-000.

Applicants: PacifiCorp.

Description: § 205(d) Rate Filing: USBR-WAPA Weber Basin Project Agreement (RS No. 286_Rev 6) to be effective 7/7/2025.

Filed Date: 4/7/25.

Accession Number: 20250407-5146.

Comment Date: 5 p.m. ET 4/28/25.

Docket Numbers: ER25-1897-000.

Applicants: Alabama Power Company, Georgia Power Company, Mississippi Power Company.

Description: Tariff Amendment: Alabama Power Company submits tariff filing per 35.15: SR Jasper (Solar & ESS) LGIA Termination Filing to be effective 4/7/2025.

Filed Date: 4/7/25.

Accession Number: 20250407-5149.

Comment Date: 5 p.m. ET 4/28/25.

Docket Numbers: ER25-1898-000.

Applicants: PJM Interconnection, L.L.C.

Description: § 205(d) Rate Filing: Original GIA SA No. 7618; AD1-013/AF1-331; Cancellation of ISA No. 6799; AD1-013 to be effective 3/7/2025.

Filed Date: 4/7/25.

Accession Number: 20250407-5150.

Comment Date: 5 p.m. ET 4/28/25.

Docket Numbers: ER25-1899-000.

Applicants: PJM Interconnection, L.L.C.

Description: § 205(d) Rate Filing: Original CSA Service Agreement No. 7621: Project Identifier No. J1377 to be effective 3/7/2025.

Filed Date: 4/7/25.

Accession Number: 20250407-5156.

Comment Date: 5 p.m. ET 4/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 7, 2025.
Carlos D. Clay,
Deputy Secretary.

[FR Doc. 2025-06245 Filed 4-10-25; 8:45 am]

BILLING CODE 6717-01-P